DEPARTMENT OF THE INTERIOR

Fish and Wildlife Service

Finding of No Significant Impact and Final Environmental Assessment for the Management of Mute Swans in the Atlantic Flyway

AGENCY: Fish and Wildlife Service, Interior.

ACTION: Notice of availability.

SUMMARY: The U.S. Fish and Wildlife Service (Service) has prepared a Finding of No Significant Impact (FONSI) and a Final Environmental Assessment (FEA) for the management of mute swans (Cygnus olor) in the Atlantic Flyway. The specific Service action under the preferred alternative of integrated population management will be the issuance of migratory bird depredation permits authorizing the take of up to 3,100 mute swans annually. The Service can also issue depredation permits that authorize egg addling, pinioning (i.e., amputation of the outer wing, a commonly used method of flight restraint in waterfowl) and sterilization, and live-trapping and relocation.

ADDRESSES: The Record of Decision—including FONSI, FEA, and related documents—will be available for public inspection, by appointment, during normal business hours at the following location: U.S. Fish and Wildlife Service, Division of Migratory Bird Management, 4501 North Fairfax Drive, Room 4000, Arlington, Virginia. These documents can also be viewed on the Service's Web site at http:/migratorybirds.fws.gov.

FOR FURTHER INFORMATION CONTACT: John L. Trapp, (703) 358-1965.

SUPPLEMENTARY INFORMATION:

Description of Action

The EA on which the FONSI is based was made available to the public on July 2, 2003 (68 FR 39593) for a 15-day public comment period. We received comments from 13 State wildlife agencies, 53 organizations, and approximately 2,620 individuals. The Service's preferred alternative was supported by 13 State wildlife agencies; 43 organizations dedicated to bird conservation or science, wildlife conservation, and wildlife management; and 24 individuals. The Service's proposed action was opposed by 10 animal-rights organizations and at least 2,589 individuals who believe that lethal take (i.e., shooting) is inhumane and that the proposed action is not supported by the available scientific evidence. More than 95 percent of the individual responses were prompted by Web-based action-alert form letters.

The specific action to be undertaken by the Service will be the issuance of migratory bird depredation permits to State wildlife agencies, the Wildlife Services program of the U.S. Department of Agriculture's Animal and Plant Health Inspection Service, national wildlife refuges, and others to take mute swans in the Atlantic Flyway, in accordance with 50 CFR 21.41 and the State-specific take guidelines presented in the FEA, to allow for the integrated population management of mute swans. Each permit application will be reviewed to ensure that the planned activity meets the goals and objectives of the Atlantic Flyway Mute Swan Management Plan (Atlantic Flyway Council 2003) as specified in the FEA, that the proposed take does not exceed the Service's State-specific take guidelines, and that the cumulative impacts will not irreparably harm the Flyway-wide population. The State-specific take guidelines will be reviewed annually and revised as necessary to ensure that Statewide and Flyway-wide populations are not reduced below target levels.

Finding of No Significant Impact

The following constitutes the full text of the FONSI signed by the Service Director:

“The U.S. Fish and Wildlife Service has proposed issuing migratory bird depredation permits authorizing the take of up to 3,100 feral mute swans (Cygnus olor) annually in the Atlantic Flyway for the next ten years. The primary goal in implementing this action is to minimize environmental damages attributed to mute swans in a feasible and cost-effective way, consistent with the Service's responsibility to manage and conserve mute swan populations under the Migratory Bird Treaty Act and conventions and other applicable law. A secondary goal—and the most effective means for achieving the first goal—is to reduce populations of feral mute swans to pre-1986 levels.

The need for the action stems from documented scientific evidence of the negative impacts that a growing population of mute swans is having on wetland habitats and native species of fish and wildlife, the threats that mute swans pose to human health and safety, and the damage that they can cause to commercial agricultural crops. The action will support implementation of a U.S. Fish and Wildlife Service policy on management of mute swans on national wildlife refuges, and implementation of the Atlantic Flyway Mute Swan Management Plan.

The proposed action (Integrated Population Management) was selected because:

(1) It provides Federal, State, and other wildlife managers with the broadest array of tools and management flexibility for dealing with local, regional, Statewide, and Flyway-wide problems caused by an expanding population of mute swans.

(2) Lethal take of adult birds, as authorized by the proposed action, has been shown to be the only effective method for reducing populations of long-lived birds such as the mute swan, and hence is the only effective method for reducing the detrimental impacts of mute swans on wetland habitats, native fish and wildlife species, and human interests.

(3) Egg addling—while a useful technique for arresting productivity and stabilizing populations and thus an important supplement to lethal take—is not an effective technique, in and of itself, for reducing populations.

(4) Non-lethal techniques such as harassment, exclusionary devices, translocation, and behavioral modification can be effective for dealing with nuisance problems caused by individual swans, or small groups of swans, but are not substitutes for population reduction.

The proposed management action will not have significant environmental impacts because:

(1) The mute swan will not be extirpated in the Atlantic Flyway, nor in any of the eight States that comprise the “core” of its range in the Atlantic Flyway.

(2) A 67 percent reduction in the number of mute swans will return the Atlantic Flyway population to a pre-1986 level of about 4,675 birds. Mute swans survived and thrived in the Atlantic Flyway at much smaller populations than this for more than 80 years.

(3) The removal of about 8,000 birds from the Atlantic Flyway will have no effect on the viability of U.S., North American, or worldwide populations of the mute swan, which number approximately 21,400, 23,000, and 614,000 birds, respectively.

(4) Pinioned mute swans of domestic origin held in captive or semi-captive conditions on private properties or in municipal parks will not be affected by the proposed action, and will remain available for viewing and enjoyment.

(5) Reduction of mute swan numbers consistent with the Atlantic Flyway management plan will prevent further damage to (a) submerged aquatic vegetation (SAV) and SAV restoration efforts, (b) populations of other fish and wildlife (including those of threatened and endangered species) and their habitats, (c) commercially and recreationally valuable shellfish and finfish, and (d) recreationally important birds (especially waterfowl), and will to some degree offset the damage that has been done by the relatively recent increase in mute swan numbers. Therefore, this action will merely help to maintain the long-term status quo.

(6) The potential risk of emotional trauma and physical injury to humans because of attacks initiated by territorial mute swans in coastal habitats frequented by people seeking outdoor recreational opportunities will be minimized.

(7) Opportunities for people to view and enjoy feral mute swans in a wild state will be reduced but not eliminated in any of the eight States that comprise the “core” of its range in the Atlantic Flyway, and thus such opportunities remain readily available to people willing to make a reasonable effort to seek them out.

Based on a review and evaluation of the attached Environmental Assessment entitled Management of Mute Swans in the Atlantic Flyway, I have determined that the issuance of migratory bird depredation permits authorizing the lethal take of up to 3,100 mute swans annually, plus addling of eggs in up to 1,750 nests, does not constitute a major Federal Action that would significantly affect the quality of the human environment within the meaning of Section 102(2)(c) of the National Environmental Policy Act of 1969. Therefore, the preparation of an Environmental Impact Statement is not required.”

Dated: August 1, 2003.
Steve Williams,
Director, Fish and Wildlife Service.

[FR Doc. 03-20281 Filed 8-5-03; 2:51 pm]

BILLING CODE 4310-55-P